DEPARTMENT OF COMMERCE

National Oceanic and Atmospheric Administration

[RTID 0648-XE409]

North Pacific Fishery Management Council; Public Meeting

AGENCY: National Marine Fisheries Service (NMFS), National Oceanic and Atmospheric Administration (NOAA), Commerce.

ACTION: Notice of hybrid meeting.

SUMMARY: The North Pacific Fishery Management Council's (Council) Groundfish Plan Teams will meet in Seattle WA.

DATES: The meetings will be held on Tuesday, November 12, 2024 through Friday, November 15, 2024, from 9 a.m. to 5 p.m., PDT.

ADDRESSES: The meetings will be hybrid meetings.

Meeting address: The in-person component of the meetings will be held at the Alaska Fishery Science Center in the Traynor Room (2076) and Room 2079, 7600 Sand Point Way NE, Building 4, Seattle, WA 98115.

If you plan to attend in-person you need to notify Sara Cleaver (sara.cleaver@noaa.gov) or Diana Stram (diana.stram@noaa.gov) at least two days prior to the meeting (or two weeks prior if you are a foreign national). You will also need a valid U.S. Identification Card. If you are attending virtually, join the meeting online through the link at https://meetings.npfmc.org/Meeting/Details/3065.

Council address: North Pacific Fishery Management Council, 1007 W 3rd Ave, Suite 400, Anchorage, AK 99501-2252; telephone: (907) 271-2809.

Instructions for attending the meeting are given under SUPPLEMENTARY INFORMATION, below.

FOR FURTHER INFORMATION CONTACT: Sara Cleaver, Council staff; email: sara.cleaver@noaa.gov or Diana Stram, Council staff; email: diana.stram@noaa.gov; telephone: (907) 271-2809. For technical support, please contact our administrative staff; email: npfmc.admin@noaa.gov.

SUPPLEMENTARY INFORMATION:

Agenda

Tuesday, November 12, 2024 Through Friday, November 15, 2024

The Bering Sea and Aleutian Islands (BSAI) and Gulf of Alaska (GOA) Groundfish Plan Teams will compile and review the annual BSAI and GOA Groundfish Stock Assessment and Fishery Evaluation (SAFE) reports, and recommend final groundfish OverFishing Limits (OFLs) and Acceptable Biological Catches (ABCs) for 2025/2026. The Plan Teams will also review the Economic Report and the Ecosystem Status Reports. The agenda is subject to change, and the latest version will be posted at https://meetings.npfmc.org/Meeting/Details/3065 prior to the meeting, along with meeting materials.

Connection Information

You can attend the meeting online using a computer, tablet, or smartphone; or by phone only. Connection information will be posted online at: https://meetings.npfmc.org/Meeting/Details/3065.

Public Comment

Public comment letters should be submitted electronically via the electronic agenda at https://meetings.npfmc.org/Meeting/Details/3065.

Authority: 16 U.S.C. 1801 et seq.

Dated: October 21, 2024.
Rey Israel Marquez,
Acting Deputy Director, Office of Sustainable Fisheries, National Marine Fisheries Service.

[FR Doc. 2024-24838 Filed 10-24-24; 8:45 am]

BILLING CODE 3510-22-P